DEPARTMENT OF THE INTEROR

Bureau of Land Management

[WY-030-1430-FR; WYW-160261]

Notice of Realty Action; Modified Competitive Sale of Public Lands in Sweetwater County, Wyoming

AGENCY: Bureau of Land Management, Department of the Interior.

ACTION: Notice of realty action.

SUMMARY: The Bureau of Land Management (BLM) proposes to sell 40 acres of public lands near Wamsutter, Wyoming, Sweetwater County, to the Town of Wamsutter for current and future affordable housing purposes. These lands consist of one parcel totaling 40.00 acres more or less, which has been identified for disposal in the Great Divide Resource Management Plan, dated November 9, 1990. The sale will be conducted using modified competitive bidding procedures in accordance with and under the applicable provisions of sections 203 of the Federal Land Policy and Management Act of 1976 (FLPMA) (43 U.S.C. 1713), its implementing regulations, and in accordance with 43 CFR 2711.3-2, BLM land sale regulations at 43 CFR Part 2710 and the Federal Land Transaction Facilitation Act of 2000, Public Law 106-248, July 25, 2000.

DATES: Comments regarding the proposed sale must be received by the BLM on or before March 10, 2008. Sealed bids must be received by March 25, 2008.

ADDRESSES: Comments regarding the proposed sale, including the environmental assessment (EA), should be addressed to: Field Manager, Rawlins Field Office, Bureau of Land Management, 1300 N. Third Street, Rawlins, Wyoming 82301. More detailed information regarding the proposed sale and the land involved may be viewed during normal business hours (7:45 a.m. to 4:30 p.m.) at the Rawlins Field Office (RFO).

FOR FURTHER INFORMATION CONTACT: Chuck Valentine at (307) 328-4307 or by e-mail at Chuck_Valentine@blm.gov. For general information on BLM's public land sale procedures, refer to the following Web address: http://www.blm.gov/nhp/what/lands/realty/tenure/sale.html.

SUPPLEMENTARY INFORMATION: The Town of Wamsutter, Wyoming (Wamsutter), has proposed 40.00 acres be sold for the purpose of providing affordable housing for current and future residents. Suitable housing is extremely limited in Wamsutter, where a population growth has been spurred on by nearby oil and gas development. It is extremely important to Wamsutter's economic development to provide land for affordable housing. Wamsutter is an adjacent landowner and has legal access to the proposed disposal parcel. Other lands located within the municipal boundaries of Wamsutter are not suitable for housing due to topography, existing utilities and/or non-compatible adjacent uses. Wamsutter is willing to purchase the parcel at not less than fair market value, subject to modified competitive bidding procedures. Wamsutter is concerned that open bidding, without allowing them the right to meet the highest bid, would preclude the opportunity to develop the adjacent property for affordable housing. On consideration of the factors described above, which include the ownership or control of the adjacent lands and the absence of identified needs for the parcel other than those proposed by Wamsutter, the authorized officer has determined that the request by Wamsutter meets the criteria in 43 CFR 2711.3-2 and that a modified competitive sale best serves the public interest. The authorized officer has determined that the method of sale will be to offer to the designated bidder the right to meet the highest bid in accordance with 43 CFR 2711.3-2(a)(1)(i), and CFR 2711.3-2(a)(2) as described above. This notice designates Wamsutter as the one bidder with the right to meet the highest bid.

(1) Modified competitive bidding includes, but is not limited to:

(i) Offering to designated bidders the right to meet the highest bid. Refusal or failure to meet the highest bid shall constitute a waiver of such bidding provisions; or

(ii) A limitation of persons permitted to bid on a specific tract of land offered for sale; or

(iii) Offering to designated bidders the right of first refusal to purchase the lands at fair market value. Failure to accept an offer to purchase the offered lands within the time specified by the authorized officer shall constitute a waiver of this preference consideration.

(2) Factors that shall be considered in determining when modified competitive bidding procedures shall be used, include but are not limited to: “Needs of State and/or local government, adjoining landowners, historical users, and other needs for the tract * * *.”

The proposed sale is consistent with the BLM Great Divide Resource Management Plan dated November 9, 1990, and would serve important public objectives which cannot be achieved prudently or feasibly elsewhere. The land contains no other known public values. Maps, the approved appraisal report, and the environmental assessment covering the proposed sale are available for review at the BLM, Rawlins Field Office, Rawlins, Wyoming (RFO).

Sealed bids must be received by the RFO at the address listed above, not later than 60 days after publication of this notice in the Federal Register.

Sealed bids must be contained in an envelope marked “Sealed Bid for Parcel WYW-160261.” All bidders must submit, with their sealed bid, a certified check, postal money order, bank draft, or cashier's check made payable to the Bureau of Land Management in an amount not less than 20% of the appraised fair market value (FMV), which has been determined to be $120,000.00 for WYW-160261. If two or more envelopes containing valid bids of the same amount are received, the determination of which is to be considered the highest bid shall be through submission of supplemental sealed bids. Bids will be opened at the RFO at the address listed above within 70 days from the publication of this Notice.

Lands Proposed for Sale

Sixth Principal Meridian, Sweetwater County, Wyoming

T. 20 N., R. 94 W.,

Sec. 34: SW¼NW¼NW¼, W½SW¼NW¼, SE¼SW¼NW¼.

The land described contains 40.00 acres, more or less, in Sweetwater County.

Terms and Conditions of Sale: The BLM sale parcel will be offered for sale via written sealed bid and is subject to the following:

1. Based upon receipt of valid bids, BLM will offer Wamsutter the right to meet the highest bid and purchase the lands at an amount equal to the highest bid price, which must be not less than the fair market value as determined by the Secretary. If Wamsutter declines this offer, the bidder with the highest sealed bid price will be declared the high bidder. Upon acceptance by BLM of the offer to purchase, the declared high bidder must remit prior to expiration of 180 days from the land sale offer date, the balance of the accepted full bid price to BLM in the form of a certified check, money order, bank draft, or cashier's check made payable to the order of the Bureau of Land Management, Rawlins Field Office, 1300 N. Third Street, Rawlins, Wyoming 82301. Personal checks will not be accepted. Failure to pay the full price within the 180 days will disqualify the apparent high bidder and cause the entire 20% deposit to be forfeited to the BLM.

2. Maps delineating the individual proposed sale parcel are available for public review at the BLM RFO along with the appraisal and the environmental assessment.

3. The BLM may accept or reject any or all offers, or withdraw the parcel of land or interest therein from sale, if, in the opinion of the authorized officer, consummation of the sale would not be fully consistent with FLPMA or other applicable laws or would not be in the public interest. If not sold, the parcel may be identified for sale at a later date without further legal notice.

4. Federal law requires bidders to be U.S. citizens 18 years of age or older; a corporation subject to the laws of any State or of the United States; a State, State instrumentality, or political subdivision authorized to hold property, or an entity including, but not limited to, associations or partnerships capable of holding property or interest therein under the laws of the State of Wyoming. Certification of qualification, whether of citizenship or corporate or partnership status, must accompany the bid deposit.

5. The patent, when issued, will contain a reservation to the United States for:

a. A right-of-way is reserved for ditches and canals constructed by authority of the United States under the Act of August 30, 1890 (43 U.S.C. 945); and

b. All the minerals in the lands so patented pursuant to section 209 of the Federal Land Policy and Management Act of 1976, 43 U.S.C. 1719, including, without limitation, substances subject to disposition under the general mining laws, the general mineral leasing laws, the Materials Act and the Geothermal Steam Act, and to it, or persons authorized by it, the right to prospect for, mine and remove the minerals from the same under applicable law and such regulations as the Secretary of the Interior may prescribe. This includes all necessary and incidental activities conducted in accordance with the provisions of the mining, geothermal, mineral leasing, and material disposal laws in effect at the time such activities are undertaken, including without limitation, necessary access and exit rights, all drilling, underground, open pit or surface mining operations, storage and transportation facilities deemed necessary and authorized under law and implementing regulations.

c. Those rights for mineral material site purposes granted to Wyoming Department of Transportation, its successors or assigns by Right-of-Way Serial No. WYW-109146, under the Interstate and Defense Highways Act and the Federal-Aid Highway Act (23 U.S.C. 317(A), (072 Stat. 0916)).

6. The patent, when issued, will be made subject to the following existing rights of record:

a. Those rights for road purposes granted to Wyoming Department of Transportation, its successors or assigns by Right-of-Way Serial No. WYW-0116729 and WYW-030313, under the Act of November 9, 1921 (43 Stat. 212);

b. Those rights for electric power purposes granted to Pacific Power & Light, its successors or assigns by Right-of-Way Serial No. WYW-136474 and WYW-81342, Under Title V of the Federal Land Policy and Management Act of 1976, 43 U.S.C. 1761-1771;

c. Those rights for electric power purposes granted to Pacific Power & Light, its successors or assigns by Right-of-Way Serial No. W-0131538, under the Act of March 4, 1911 (36 Stat. 1253);

d. Those rights for telephone and telegraph purposes granted to Colorado Interstate Gas, its successors or assigns by Right-of-Way Serial No. WYW-62912, under Title V of the Federal Land Policy and Management Act of 1976, 43 U.S.C. 1761-1771;

e. Those rights for road purposes granted to BP America Production Company, its successors or assigns by Right-of-Way Serial No. WYW-143762, under Title V of the Federal Land Policy and Management Act of 1976, 43 U.S.C. 1761-1771;

f. Those rights for road purposes granted to the Town of Wamsutter, Wyoming, its successors or assigns by Right-of-Way Serial No. WYW-76278, under Title V of the Federal Land Policy and Management Act of 1976, 43 U.S.C. 1761-1771; and

g. Applications received prior to publication of this Notice if processing the application would have no adverse effect on the federally approved Fair Market Value (FMV).

Upon publication of this notice in the Federal Register, the above described land will be segregated from all other forms of appropriation under the public land laws, including the general mining laws, except for sale under FLPMA and leasing under the mineral leasing laws. The segregative effect of this notice will terminate upon issuance of a patent or other document of conveyance for such land, upon publication in the Federal Register of a termination of the segregation, or 2 years from the date of the publication of this notice in the Federal Register, whichever comes first, unless extended by the BLM State Director in accordance with 43 CFR 2711.1-2(d), prior to the expiration date.

Additional Information: No representation or warranty of any kind, express or implied, is given or will be given by the United States as to the title, the physical condition or the past, present, or potential uses of the land proposed for sale. However, to the extent required by law, such land is subject to the requirements of section 120(h) of the Comprehensive Environmental Response Compensation and Liability Act (CERCLA), as amended (42 U.S.C. 9620(h)).

Public Comments: For a period of 45 days after publication of this Notice in the Federal Register, the BLM Field Manager, Rawlins Field Office, 1300 N. Third Street, Rawlins, Wyoming 82301 will receive comments submitted via mail or overnight delivery from the general public and interested parties. Facsimiles, telephone calls, or electronic mail via Internet will not be considered as validly submitted comments. Before including your address, phone number, e-mail address, or other personal identifying information in your comment, you should be aware that your entire comment—including your personal identifying information—may be made publicly available at any time. While you can ask us in your comment to withhold your personal identifying information from public review, we cannot guarantee that we will be able to do so.

Any adverse comments will be reviewed by the State Director, who may sustain, vacate, or modify this realty action in whole or in part. In the absence of any timely filed objections, this realty action will become the final determination of the Department of the Interior.

The land will not be offered for sale prior to March 25, 2008.

(Authority: 43 CFR 2711.1-2)

Dated: January 11, 2008.
Patrick Madigan,
Field Manager, Rawlins Field Office, Wyoming.

[FR Doc. E8-1275 Filed 1-24-08; 8:45 am]

BILLING CODE 4310-22-P